DEPARTMENT OF DEFENSE

Defense Acquisition Regulations System

[Docket No. DARS-2013-0044]

Submission for OMB Review; Comment Request

ACTION: Notice.

The Defense Acquisition Regulations System has submitted to OMB for clearance, the following proposal for collection of information under the provisions of the Paperwork Reduction Act (44 U.S.C. chapter 35).

DATES: Consideration will be given to all comments received by February 21, 2014.

Title, Associated Form, and OMB Number: Defense Federal Acquisition Regulation Supplement (DFARS, part 211, Describing Agency Needs, and the associated clauses at DFARS 252.211-7004, Alternate Preservation, Packaging, and Packing and 252.211-7005, Substitutions for Military or Federal Specifications and Standards; OMB Control Number 0704-0398.

Type of Request: Extension.

Number of Respondents: 385.

Responses Per Respondent: 1.4.

Annual Responses: 573.

Average Burden Per Response: Approximately 2 hours.

Annual Burden Hours: 1,136.

Needs and Uses: This information collection permits offers to—

• Propose alternatives to military preservation, packaging, or packing specifications. DoD uses the information to evaluate and award contracts using commercial or industrial preservation, packaging, or packing if the offeror chooses to propose such alternates.

• Propose Single Process Initiative (SPI) processes as alternatives to military or Federal specifications and standards cited in DoD solicitations for previously developed items. DoD uses the information to verify Government acceptance of an SPI process as a valid replacement for a military or Federal specification or standard.

Affected Public: Businesses or other for-profit and not-for profit institutions.

Frequency: On Occasion.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Ms. Patricia Toppings.

Written requests for copies of the information collection proposal should be sent to Ms. Toppings at WHS/ESD/Information Management Division, 4800 Mark Center Drive, 2nd Floor, East Tower, Suite 02G09, Alexandria, VA 22350-3100.

Manuel Quinones,
Editor, Defense Acquisition Regulations System.

[FR Doc. 2014-01128 Filed 1-21-14; 8:45 am]

BILLING CODE 5001-06-P